DEPARTMENT OF ENERGY

Federal Energy Regulatory Commission

[Docket No. EC05-51-000, et al.]

American Ref-Fuel Holdings Corp., et al.; Electric Rate and Corporate Filings

February 23, 2005.

The following filings have been made with the Commission. The filings are listed in ascending order within each docket classification.

1. American Ref-Fuel Holdings Corp.; American Ref-Fuel Company of Delaware Valley, L.P.; American Ref-Fuel Company of Essex County; American Ref-Fuel Company of Hempstead; American Ref-Fuel Company of Niagara, L.P.; SEMASS Partnership; Danielson Holding Corporation

[Docket No. EC05-51-000]

Take notice that on February 16, 2005, as supplemented on February 18, 2005, American Ref-Fuel Holdings Corp. (Ref-Fuel Holdings Corp.), American Ref-Fuel Company of Delaware Valley, L.P., American Ref-Fuel Company of Essex County, American Ref-Fuel Company of Hempstead, American Ref-Fuel Company of Niagara, L.P., SEMASS Partnership and Danielson Holding Corporation (Danielson) filed with the Federal Energy Regulatory Commission an application pursuant to section 203 of the Federal Power Act for authorization of a disposition of jurisdictional facilities whereby Danielson would acquire the outstanding common stock of Ref-Fuel Holdings Corp. and would thereby obtain indirect ownership of the American Ref-Fuel Company of Essex County, American Ref-Fuel Company of Hempstead, American Ref-Fuel Company of Delaware Valley, L.P. and the SEMASS Partnership.

Comment Date: 5 p.m. eastern time on March 11, 2005.

2. AEP Power Marketing, Inc.; AEP Service Corporation; CSW Power Marketing, Inc.; CSW Energy Services, Inc.; Central and South West Services, Inc.

[Docket Nos. ER96-2495-026, ER97-4143-014, ER97-1238-021, ER98-2075-020, ER98-542-016]

Take notice that on February 15, 2005, as supplemented on February 17, 2005, American Electric Power Service Corporation, on behalf of the AEP operating companies, AEP Power Marketing, Inc., AEP Service Corporation, CSW Power Marketing, Inc., CSW Energy Services, Inc., and Central and South West Services, Inc., submitted revisions to its market-based rate tariffs providing for cost-based rate caps applicable to sales of electric power at wholesale that sink within the AEP control area in the Southwest Power Pool, Inc. AEP states that the filing is submitted in response to the Commission's order issued December 17, 2004 in Docket No. ER96-2495-020, et al., 109 FERC ¶ 61,276 (2004).

AEP states that copies of the filing were served on the state regulatory commissions of Arkansas, Indiana, Kentucky, Louisiana, Michigan, Ohio, Oklahoma, Tennessee, Texas, Virginia, West Virginia and the parties on the official service lists in these proceedings.

Comment Date: 5 p.m. eastern time on March 10, 2005.

3. AmerGen Energy Company, LLC; Commonwealth Edison Company; Exelon Energy Company; Exelon Framingham LLC; Exelon Generation Company, L.L.C.; Exelon New England Power Marketing, L.P.; PECO Energy Company; Unicom Power Marketing, Inc.

[Docket Nos. ER99-754-010, ER98-1734-008, ER97-3954-018, ER01-513-009, ER00-3251-008, ER99-2404-006, ER99-1872-009, ER01-1919-005]

Take notice that on January 26, 2005, and February 14, 2005, Exelon Corporation, on its behalf and that of the Applicants in this proceeding, filed responses to the Commission's deficiency letter issued January 5, 2005, in Docket No. ER99-754-009, et al., regarding the updated market power analyses filed on September 27, 2004, as supplemented on October 13, 2004.

Comment Date: 5 p.m. eastern time on March 7, 2005.

4. ISO New England Inc.

[Docket Nos. ER02-2153-010 and ER05-608-000]

Take notice that on February 14, 2005, ISO New England Inc. (ISO) submitted its Capital Projects Report for the quarter ending December 31, 2004, and its Unamortized Costs Schedule of Funded Capital Expenditures for the same period.

The ISO states that copies of the filing were sent to the New England state governors and regulatory agencies and electronically to the ISO's Governance Participants. The ISO also states that copies of the filing were sent to parties on the official service list for Docket No. ER02-2153-000.

Comment Date: 5 p.m. eastern time on March 7, 2005.

5. San Diego Gas & Electric Company

[Docket No. ER05-411-001]

Take notice that on February 17, 2005, San Diego Gas & Electric Company (SDG&E) tendered for filing an errata to its December 28, 2004, filing of a rate change for the Transmission Revenue Balancing Account Adjustment and its Transmission Access Charge Balancing Account Adjustment set forth in its Transmission Owner Tariff. SDG&E states that the errata would slightly increase the rates set forth in the December 28 filing for jurisdictional transmission service utilizing that portion of the California Independent System Operator-controlled grid owned by SDG&E. SDG&E requests an effective date of January 1, 2005.

Comment Date: 5 p.m. eastern time on March 10, 2005.

6. New England Power Pool

[Docket No. ER05-588-000]

Take notice that on February 17, 2005, the New England Power Pool (NEPOOL) Participants Committee submitted the One Hundred Fourteenth Agreement Amending New England Power Pool Agreement which modifies section 11.2 of the Second Restated NEPOOL Agreement to provide that the NEPOOL Review Board may be constituted of between three and five members, rather than between four and five members as presently provided for in section 11.2. NEPOOL requests an effective date of February 1, 2005.

The Participants Committee states that copies of the filing were sent to the New England state governors and regulatory commissions and the Participants in NEPOOL.

Comment Date: 5 p.m. eastern time on March 10, 2005.

7. Midwest Independent Transmission System Operator, Inc.

[Docket No. ER05-589-000]

Take notice that on February 17, 2005, the Midwest Independent Transmission System Operator, Inc. (Midwest ISO), the Midwest ISO Transmission Owners and the Midwest Stand Alone Transmission Companies (collectively, Filing Parties) submitted for filing proposed revisions to the Agreement of Transmission Facilities Owners to Organize the Midwest Independent Transmission System Operator, Inc., a Delaware Non-Stock Corporation (Midwest ISO Agreement) to accommodate the Stipulation and Agreement approved by the Commission on December 10, 2004, in Docket No. ER04-779-000 and revisions to the Midwest ISO Agreement to reconcile the Stipulation and Agreement and previous amendments to include Illinois Power Company and Great River Energy as new transmission-owning members of the Midwest ISO. The Filing Parties also propose conforming revisions to the Table of Contents of the Midwest ISO Agreement. The Filing Parties requested an effective date of December 20, 2004.

The Filing Parties state that Midwest ISO has electronically served a copy of this filing, with attachments, upon all Midwest ISO members, member representatives of transmission owners and non-transmission owners, as well as all state commissions within the regions. The Filing Parties also state that the filing has been posted on Midwest ISO's Web site at http://www.midwestiso.org under the heading “Filings to FERC” and that Midwest ISO will provide hard copies to any interested party upon request.

Comment Date: 5 p.m. eastern time on March 10, 2005.

8. Duke Energy Corporation

[Docket No. ER05-591-000]

Take notice that on February 17, 2005, Duke Energy Corporation (Duke) submitted revised tariff sheets in compliance with the Commission's Order No. 2003-B, Standardization of Interconnection Agreements and Procedures, 109 FERC ¶ 61,287 (2004).

Duke states that copies of the filing were served on its state commissions.

Comment Date: 5 p.m. eastern time on March 10, 2005.

9. Maine Public Service Company

[Docket No. ER05-592-000]

Take notice that on February 17, 2005, Maine Public Service Company (MPS) filed proposed revisions to its FERC Open Access Transmission Tariff reflecting minor modifications to the form of large generator interconnection agreement. MPS requests an effective date of April 18, 2005.

MPS states that copies of the filing were served on MPS's jurisdictional customers, the Maine Public Utilities Commission, and the Maine Public Advocate.

Comment Date: 5 p.m. eastern time on March 10, 2005.

10. Southern California Edison Company

[Docket No. ER05-593-000]

Take notice that on February 17, 2005, Southern California Edison (SCE) submitted for filing a service agreement for wholesale distribution service between SCE and the City of Azusa designated as Fourth Revised Service Agreement No. 2, under SCE's Wholesale Distribution Access Tariff, FERC Electric Tariff, First Revised Volume No. 5. SCE requests an effective date of April 8, 2005.

SCE states that copies of the filing were served on the Public Utilities Commission of the State of California, the City of Azusa and all of the parties on the official service list in Docket No. ER05-80-000.

Comment Date: 5 p.m. eastern time on March 10, 2005.

11. New England Power Pool

[Docket No. ER05-594-000]

Take notice that on February 17, 2005, the New England Power Pool (NEPOOL) Participants Committee submitted the One Hundred Thirteenth Agreement Amending New England Power Pool Agreement which reflects a limited transitional modification to the Second Restated NEPOOL Agreement to permit compensation of $63,279.87 to USGen New England, Inc. for following dispatch instructions ISO New England Inc. (ISO-NE). NEPOOL requests an effective date of May 1, 2005.

The Participants Committee states that copies of the filing were sent to the New England state governors and regulatory commissions and the Participants in NEPOOL.

Comment Date: 5 p.m. eastern time on March 10, 2005.

12. California Independent System Operator Corporation

[Docket No. ER05-595-000]

Take notice that on February 17, 2005, the California Independent System Operator Corporation (ISO) submitted an amendment to the ISO tariff (Amendment No. 65) to establish an additional criterion governing when the off-based methodology should be used to calculate decremental reference levels.

The ISO states that this filing has been served on the California Public Utilities Commission, the California Energy Commission, the California Electricity Oversight Board, all parties with effective scheduling coordinator service agreements under the ISO tariff, and all parties to the proceedings in Docket No. ER03-683-000. In addition, the ISO states that it has posted the filing on the ISO home page.

Comment Date: 5 p.m. eastern time on March 10, 2005.

13. Entergy Atlantic, LLC

[Docket No. ER05-596-000]

Take notice that on February 17, 2005, Energy Atlantic, LLC (Energy Atlantic) submitted a notice of cancellation of its market-based rate schedule, First Revised FERC Electric Rate Schedule No. 1. Energy Atlantic requests an effective date of April 18, 2005.

Energy Atlantic states that copies of the filing were served on the Maine Public Utilities Commission and the Maine Office of Public Advocate.

Comment Date: 5 p.m. eastern time on March 10, 2005.

14. Wayne-White Counties Electric Cooperative

[Docket No. ER05-597-000]

Take notice that on February 17, 2005, Wayne-White Counties Electric Cooperative (Wayne-White) submitted Wayne-White Counties Electric Cooperative FERC Electric Tariff, First Revised Volume No. 1, proposing rate increases for its Open Access Transmission Tariff for Schedules 7 and 8 and Attachment H and certain non-rate modifications to section 28.5, Schedules 1, 2, and 3 and Attachments E and I. Wayne-White requests an effective date of April 18, 2005.

Wayne-White states that copies of the filing were served on Wayne-White's jurisdictional customers, Illinois Power Company, Constellation Energy Commodities Group and the Illinois Commerce Commission.

Comment Date: 5 p.m. eastern time on March 10, 2005.

15. Dartmouth PPA Holdings LLC; Dartmouth Power Associates L.P.

[Docket Nos. ER05-598-000, ER05-599-000]

Take notice that on February 17, 2005, Dartmouth PPA Holdings LLC (Dartmouth PPA) and Dartmouth Power Associates Limited Partnership (Dartmouth Power) submitted an application for Dartmouth PPA to obtain market-based rate authorization to sell energy, capacity, and ancillary services, and reassign transmission capacity and resell firm transmission rights. Dartmouth PPA also requested the waivers and exemptions typically granted to the holders of market-based rate authorization. Dartmouth Power requested the revision of a provision of Dartmouth Power's rate schedule which will permit Dartmouth PPA to step into an existing Dartmouth Power electricity sales contract. Dartmouth PPA and Dartmouth Power request a March 23, 2005, effective date.

Comment Date: 5 p.m. eastern time on March 10, 2005.

16. Maine Public Service Company

[Docket No. ER05-600-000]

Take notice that on February 17, 2005, Maine Public Service Company (MPS) filed proposed revisions to its FERC Open Access Transmission Tariff pursuant to Order No. 2003-B, Standardization of Generator Interconnection Agreements and Procedures, incorporating Order No. 2003-B's revisions to the Commission's pro forma Standard Large Generator Interconnection Procedures and Standard Large Generator Interconnection Agreement. MPS requests an effective date of January 19, 2005.

MPS states that copies of the filing were served on MPS's jurisdictional customers, the Maine Public Utilities Commission, and the Maine Public Advocate.

Comment Date: 5 p.m. eastern time on March 10, 2005.

17. Fitchburg Gas and Electric Light Company

[Docket No. ER05-620-000]

Take notice that on February 17, 2005, Fitchburg Gas and Electric Light Company (Fitchburg) submitted an amendment to the agreement for network integration transmission service between Fitchburg and the Massachusetts Bay Transportation Authority under ISO New England, Inc., FERC Electric Tariff No. 3. Fitchburg states that the amendment reflects an extension of the term of the agreement through July 1, 2006, with a one-year automatic renewal each year unless the agreement is terminated by either party by written notice 60 days prior to the date of automatic renewal.

Fitchburg states that copies of the filing were served on Massachusetts Bay Transportation Authority and the Massachusetts Department of Telecommunications and Energy.

Comment Date: 5 p.m. eastern time on March 9, 2005.

18. Old Dominion Electric Cooperative

[Docket No. ES05-18-000]

Take notice that on February 9, 2005, Old Dominion Electric Cooperative submitted an application pursuant to section 204 of the Federal Power Act seeking authorization to issue short-term, secured or unsecured debt in an amount not to exceed $501 million.

Comment Date: 5 p.m. eastern time on March 16, 2005.

19. Mid-American Energy Company

[Docket No. ES05-19-000]

Take notice that on February 10, 2005, Mid-American Energy Company (Mid-American) submitted an application pursuant to section 204 of the Federal Power Act seeking authorization to issue promissory notes and other evidences of short-term, unsecured indebtedness, in an amount not to exceed $500 million.

Comment Date: 5 p.m. eastern time on March 16, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-834 Filed 3-2-05; 8:45 am]

BILLING CODE 6717-01-P